DEPARTMENT OF TRANSPORTATION

Federal Aviation Administration

RTCA Special Committee 198: Next-Generation Air/Ground Communications System (NEXCOM)

Note: This agenda for the 16th Plenary of SC-198 replaces the original plenary scheduled for February 18-19, which was not held due to inclement weather closing the Government in Washington, DC.

AGENCY: Federal Aviation Administration (FAA), DOT.

ACTION: Notice of RTCA Special Committee 198 meeting.

SUMMARY: The FAA is issuing this notice to advise the public of a meeting of RTCA Special Committee 198: Next-Generation Air/Ground Communications System (NEXCOM).

DATES: The meeting will be held on March 25-26, 2003, starting at 9 a.m.

ADDRESSES: The meeting will be held at RTCA, 1828 L Street, Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 198 meeting. The agenda will include:

• March 25:

• Opening Plenary Session (Welcome and Introductory Remarks, Review Agenda and Minutes of Previous Meeting)

• Comments on Program Management Committee approval of Working Group-5 (WG) DO-284, NEXCOM Safety and Performance Requirements (SPR) Document

• WG Reports

• Status of WG-4, Transition Document for Very High Frequency Digital Link Mode 3

• Status of WG-5, Proposed Change 1, to DO-284, NEXCOM SPR

• Resolve final review and comment (FRAC) comments on WG-4's draft Transition Plan for VHF Digital Link Mode 3

• Continue to resolve FRAC comments on draft WG-4's draft Transition Plan for VHF Digital Link Mode 3

• WG-5 review and comment on draft DO-284 Change 1, NEXCOM SPR

• March 26:

• WG-5 meeting to review final draft DO-2W84 Change 1 and recommend approval for FRAC

• Resolve FRAC comments of draft WG-4, Transition Plan for VHF Digital Link Model 3 and recommend for RTCA PMC approval

• Closing Plenary Session (Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 3, 2003.
Janice L. Peters,
FAA Special Assistant, RTCA Advisory Committee.

[FR Doc. 03-5931 Filed 3-11-03; 8:45 am]

BILLING CODE 4910-13-M